DEPARTMENT OF HOMELAND SECURITY

Coast Guard

[USCG-2005-20753]

Recreational Boating Safety Projects, Programs and Activities Funded Under Provisions of the Transportation Equity Act for the 21st Century; Accounting of

AGENCY: Coast Guard, DHS.

ACTION: Notice.

SUMMARY: For each of 6 fiscal years starting in 1999, the Transportation Equity Act for the 21st Century has made $5 million available to the Secretary of Transportation for payment of Coast Guard expenses for personnel and activities directly related to coordinating and carrying out the national recreational boating safety program. This notice is being published to satisfy a requirement of the Act that a detailed accounting of the projects, programs, and activities funded under the national recreational boating safety program provision of the Act be published annually in the Federal Register. In this notice we have specified the amount of monies the Coast Guard has committed, obligated or expended during fiscal year 2004, as of September 30, 2004.

FOR FURTHER INFORMATION CONTACT: Jeffrey N. Hoedt, Chief, Office of Boating Safety, telephone 202-267-1077, fax 202-267-4285, or Mr. Phil Cappel, Chief, Program Management Division, telephone 202-267-0988, fax 202-267-4285.

SUPPLEMENTARY INFORMATION: The Transportation Equity Act for the 21st Century became law on June 9, 1998 (Pub. L. 105-178; 112 Stat. 107). The Act required that of the $5 million made available to carry out the national recreational boating safety program each year, $2 million shall be available only to ensure compliance with Chapter 43 of title 46, U.S. Code—Recreational Vessels. The responsibility to administer these funds was delegated to the Commandant of the United States Coast Guard. Subsection (c) of section 7405 of the Act directs that no funds available to the Secretary under this subsection may be used to replace funding traditionally provided through general appropriations, nor for any purposes except those purposes authorized; namely, for personnel and activities directly related to coordinating and carrying out the national recreational boating safety program. Amounts made available each fiscal year 1999 through 2004 shall remain available until expended.

Use of these funds requires compliance with standard Federal contracting rules with associated lead and processing times resulting in a lag time between available funds and spending. The total cumulative amount of fiscal year 1999, 2000, 2001, 2002 and 2003 funding committed, obligated and/or expended for each activity was shown in our notice published in the Federal Register (68 FR 74625) on December 24, 2003. The total amount of funding, transferred to the Coast Guard from the Aquatic Resources (Wallop-Breaux) Trust Fund, committed, obligated and/or expended during fiscal year 2004 for each activity is shown below.

Factory Visit Program: Funding was provided to continue the national recreational boat factory visit program, initiated in January 2001. The factory visit program currently allows contractor personnel, acting on behalf of the Coast Guard, to visit approximately 2,000 recreational boat manufacturers each year to inspect for compliance with the Federal regulations, communicate with the manufacturers as to why they need to comply with the Federal regulations, and educate them, as necessary, on how to comply with the Federal regulations. ($1,875,826)

Boat Compliance Testing: Funding was provided for expansion of the boat compliance testing program whereby new manually propelled and outboard recreational boats are purchased in the open market and tested for compliance with the Federal flotation standards. The expanded program includes inboard/sterndrive boats and used boats. ($100,000)

Associated Equipment Compliance Testing: A contract was awarded to buy recreational boat “associated equipment” (e.g., starters, alternators, fuel pumps, and bilge pumps) and test this equipment for compliance with Federal safety regulations. This new initiative complements the boat compliance testing program. ($150,000)

New Recreational Boating Safety Associated Travel: Travel by employees of the Office of Boating Safety was performed to carry out additional recreational boating safety actions and to gather background and planning information for new recreational boating safety initiatives. ($5,404)

New Boat Manufacturer Handbook: A contract was awarded to reprint a comprehensive and user-friendly handbook for distribution to new recreational boat manufacturers. Included in the handbook are the Federal regulations and plain language guidelines that help clarify Federal requirements. The handbook is aimed at increasing the level of new recreational boat manufacturer compliance with applicable Federal regulations. ($26,220)

Articulated Mannequins/Computer Simulation Model: The objective of this contracted program is to improve the safety of recreational boaters by fostering developmental technology for improved personal flotation devices (PFDs). This program is furthering development of flotation mannequins and a water forces computer simulation program to promote the rapid, objective evaluation of different PFD designs on various body types that are representative of the recreational boating population. The computer simulation program will be validated through the use of a family of anthropomorphic, articulated mannequins. Under the contract to develop the articulated mannequins and computer simulation model, a male model has been built and is almost perfected. Currently, a female and a child mannequin are being developed. The development of a computer simulation program will facilitate evaluation of the effectiveness of new and unique PFD designs. ($495,034)

Carbon Monoxide Research: Under a Memorandum of Agreement between the Office of Boating Safety and the Department of Health and Human Services, U.S. Public Health Service, Federal Occupational Health Program, funding was provided to continue investigation into identifying and classifying additional recreational boating carbon monoxide related deaths and injuries. ($100,000)

Fuel Cell Development: Funding was provided to explore the possibility of transferring fuel cell technology from land based units to marine propulsion use. ($225,000)

Recreational Boating Safety (RBS) Outreach Program: Funding was provided for this program which provides full marketing, media, public information, and program strategy support to the RBS effort. The goal is to coordinate the RBS outreach campaigns some of which include: National Boating Under the Influence Campaign (BUI), You're in Command, PFD Wear, Vessel Safety Check Program (VSC), Boating Safety Education Courses, and other recreational boating safety issues on an as needed basis. ($1,640,000)

Personnel Support: Funding was provided for personnel to support the development of new regulations, to support new contracting activities associated with the additional funding, and to monitor and manage the contracts awarded. ($437,769)

A total of $20,844,160 of the $25,000,000 made available to the Coast Guard through annual transfers of $5 million in fiscal years 1999, 2000, 2001, 2002 and 2003 has been committed, obligated or expended as of September 30, 2003. Of the $5 million made available to the Coast Guard in fiscal year 2004, $3,618,119 has been committed, obligated or expended and an additional $1,437,134 of prior fiscal year funds has been committed, obligated or expended, as of September 30, 2004. Therefore, a total of $25,899,413 of the $30,000,000 made available to the Coast Guard through annual transfers of $5 million in fiscal years 1999, 2000, 2001, 2002, 2003 and 2004 has been committed, obligated or expended as of September 30, 2004.

Dated: March 24, 2005.
James W. Underwood,
Rear Admiral, U.S. Coast Guard, Director of Operations Policy.

[FR Doc. 05-6308 Filed 3-29-05; 8:45 am]

BILLING CODE 4910-15-P